DEPARTMENT OF COMMERCE

Patent and Trademark Office

USPTO Websites Customer Satisfaction Surveys

ACTION: Proposed collection; comment request.

SUMMARY: The United States Patent and Trademark Office (USPTO), as required by the Paperwork Reduction Act of 1995, invites comments on a proposed new information collection.

DATES: Written comments must be submitted on or before September 4, 2018.

ADDRESSES: You may submit comments by any of the following methods:

• Email: InformationCollection@uspto.gov. Include “0651—New: Generic Clearance comment” in the subject line of the message.

• Federal Rulemaking Portal: http://www.regulations.gov.

• Mail: Marcie Lovett, Director, Records and Information Governance Division, Office of the Chief Information Officer, United States Patent and Trademark Office, P.O. Box 1450, Alexandria, VA 22313-1450.

FOR FURTHER INFORMATION CONTACT: Requests for additional information should be directed to Marcie Lovett, Director, Records and Information Governance Division, Office of the Chief Information Officer, United States Patent and Trademark Office, P.O. Box 1450, Alexandria, VA 22313-1450; by telephone at 571-272-8123; or by email to Marcie.Lovett@uspto.gov with “Generic Clearance” in the subject line.

Additional information about this collection can be found at http://www.reginfo.gov under “Information Collection Review.”

SUPPLEMENTARY INFORMATION:

I. Abstract

This proposed information collection covers information gathered on the USPTO Websites Customer Satisfaction Surveys. These surveys provide a means to consistently assess, benchmark, and improve customer satisfaction with USPTO websites. The agency has partnered with ForeSee Results, Inc. to conduct this information collection. ForeSee Results' methodology (Customer Experience Analytics or CXA) is a derivative of the widely used American Customer Satisfaction Index (ACSI). This methodology combines survey data and a patented econometric model to precisely measure the customer satisfaction of website users, identify specific areas for improvement, and determine the impact of those improvements on customer satisfaction. The ultimate purpose of the surveys covered in this collection is to improve the quality of goods and services available to customers of the USPTO.

The USPTO Websites Customer Satisfaction Surveys will be completed subject to the Privacy Act of 1974, Public Law 93-579, December 31, 1974 (5 U.S.C. 522a). The agency information collection will be used solely for the purpose of the surveys. The contractor will not be authorized to release any USPTO information obtained through surveys without first obtaining permission from USPTO. In no case will any new system of records containing privacy information be developed by the USPTO or the contractor collecting the data. In addition, USPTO provides ForeSee only information sufficient to randomly select website visitors as potential survey respondents.

The information collected in the surveys will enable USPTO to determine customer satisfaction metrics among various visitor sub-groups. This information collection will assist USPTO in improving customer service and addressing areas of concern in a targeted manner. This survey does not ask any questions of a sensitive nature or regarding sensitive topics. There is no other agency or organization able to provide the information that is accessible through the surveying approach used in this information collection.

II. Method of Collection

Customers will respond to the surveys electronically, as hosted on USPTO websites.

III. Data

OMB Number: 0651—New.

IC Instruments and Forms: The individual instruments in this collection, as well as their associated forms, are listed in the table below.

Type of Review: New collection.

Affected Public: Individuals and households; businesses or other for-profits; and not-for-profit institutions.

Estimated Number of Respondents: 100,000 responses per year.

Estimated Time per Response: Approximately 8 minutes (0.133 hours) per response.

Estimated Total Annual Respondent Burden Hours: 13,333.33 hours.

Estimated Total Annual Respondent (Hourly) Cost Burden: $2,716,133.33. The USPTO expects that attorneys, paralegals and pro se applicants will complete these applications. The professional hourly rate for attorneys is $438, and the hourly rates for paralegals and pro se applicants are $145 and $28.14, respectively. The combination of these respondent types brings the average respondent rate to $203.71. The sources for these rates are the 2017 Report of the Economic Survey of the American Intellectual Property Association (AIPLA), the 2016 National Utilization and Compensation Survey Report of the National Association of the Legal Assistants (NALA), and the mean rate for office and administrative support workers as found in the May 2017 National Occupational Employment and Wage Estimates of the U.S Bureau pf Labor Statistics (occupation code 43-1011). Using this blended hourly rate, the USPTO estimates that the total respondent cost burden for this collection is $2,716,133.33 per year.

IC No. | Information collection item | Estimated time for response (minutes) | Estimated annual responses | Estimated annual burden hours | Rate (S/hr)
|  | (a) | (b) | (a) × (b) = (c)
1 | Surveys | 8 | 100,000 | 13,333.33 | $203.71
Total (Three-Year Period) |  |  | 100,000 (300,000) | 13,333.33 (40,000) | $2,716,133.33 ($8,148,400.00)

Estimated Total Annual (Non-hour) Respondent Cost Burden: $0. There are no capital start-up, maintenance, postage, or recordkeeping costs associated with this information collection.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Marcie Lovett,
Director, Records and Information Governance Division, Office of the Chief Information Officer, United States Patent and Trademark Office.

[FR Doc. 2018-14383 Filed 7-3-18; 8:45 am]

BILLING CODE 3510-16-P